DEPARTMENT OF ENERGY

Federal Energy Regulatory Commission

[Project No. 13755-002]

FFP Missouri 12, LLC; Notice of Scoping Meetings and Environmental Site Review and Soliciting Scoping Comment

Take notice that the following hydroelectric application has been filed with the Commission and is available for public inspection.

a. Type of Application: Original Major License

b. Project No.: 13755-002

c. Date Filed: February 3, 2014

d. Applicant: FFP Missouri 12, LLC

e. Name of Project: Allegheny Lock and Dam Number 2

f. Location: The proposed project would be located at the U.S. Army Corps of Engineers' (Corps) Allegheny Lock and Dam Number 2 on the Allegheny River in Allegheny County, Pennsylvania. The project would occupy 37.5 acres of federal land managed by the Corps.

g. Filed Pursuant to: Federal Power Act, 16 U.S.C. 791(a)-825(r)

h. Applicant Contact: Thomas Feldman, Rye Development, LLC., PO Box 390691, Cambridge, MA 02139; or at (617) 433-8140; or tom@ryedevelopment.com

i. FERC Contact: Allyson Conner, (202) 502-6082 or allyson.conner@ferc.gov

j. Deadline for filing scoping comments: November 10, 2014.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-13755-002.

The Commission's Rules of Practice and Procedures require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The proposed project would utilize the existing Corps' Allegheny Lock and Dam Number 2, and would consist of the following new facilities: (1) a 170-foot-wide, 120-foot-long, 70-foot-high intake structure with two 5-inch clear bar spacing trash racks; (2) two 45-foot-wide, 40-foot-high spillway bays; (3) an 1,100-foot-long, 2.5-foot-high adjustable crest gate on top of the existing dam crest; (4) a 170-foot-wide by 180-foot-long powerhouse along the east side of the river; (5) three Kaplan turbine-generator units with a combined installed capacity of 17,000 kilowatts; (6) a 50-foot-wide by 60-foot-long substation; (7) a 1,265-foot-long, single overhead, 69-kilovolt transmission line to connect the project substation to an existing distribution line owned by Duquesne Light Company; and (8) appurtenant facilities. The project is estimated to generate an average of 81,950 megawatt-hours annually.

The applicant proposes to operate the project in a “run-of-river” mode using flows made available by the Corps. The proposed project would not change existing flow releases or water surface elevations upstream or downstream of the proposed project.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

n. Scoping Process

The Commission intends to prepare an environmental assessment (EA) on the project in accordance with the National Environmental Policy Act. The EA will consider both site-specific and cumulative environmental impacts and reasonable alternatives to the proposed action.

Scoping Meetings

FERC staff will conduct one agency scoping meeting and one public meeting. The agency scoping meeting will focus on resource agency and non-governmental organization (NGO) concerns, while the public scoping meeting is primarily for public input. All interested individuals, organizations, and agencies are invited to attend one or both of the meetings, and to assist the staff in identifying the scope of the environmental issues that should be analyzed in the EA. The times and locations of these meetings are as follows:

Public Scoping Meeting

Date: Thursday, October 9, 2014

Time: 7:00 p.m. (EDT)

Place: DoubleTree by Hilton Hotel Pittsburgh—Green Tree

Address: 500 Mansfield Avenue, Pittsburgh, PA 15205, (412) 922-8400.

Agency Scoping Meeting

Date: Friday, October 10, 2014

Time: 9:30 a.m. (EDT)

Place: DoubleTree by Hilton Hotel Pittsburgh—Green Tree

Address: 500 Mansfield Avenue, Pittsburgh, PA 15205, (412) 922-8400.

Copies of the Scoping Document (SD1) outlining the subject areas to be addressed in the EIS were distributed to the parties on the Commission's mailing list. Copies of the SD1 will be available at the scoping meeting or may be viewed on the web at http://www.ferc.gov using the “eLibrary” link (see item m above).

Environmental Site Review

The Applicant and FERC staff will conduct a project Environmental Site Review. The time and location of this meeting is as follows:

Project: Allegheny Lock and Dam Number Two

Date: Thursday, October 9, 2014

Time: 3:00 p.m. (EDT)

Location: Corps' parking lot,

7451 Lockway West,

Pittsburgh, PA 15206.

All interested individuals, organizations, and agencies are invited to attend. All participants should meet at the time and location specified above. All participants are responsible for their own transportation to the site. Anyone with questions about the Environmental Site Review should contact Mr. Thomas Feldman of Rye Development, LLC at (617) 433-8140 on or before October 3, 2014.

Objectives

At the scoping meetings, the staff will: (1) Summarize the environmental issues tentatively identified for analysis in the EA; (2) solicit from the meeting participants all available information, especially quantifiable data, on the resources at issue; (3) encourage statements from experts and the public on issues that should be analyzed in the EA, including viewpoints in opposition to, or in support of, the staff's preliminary views; (4) determine the resource issues to be addressed in the EA; and (5) identify those issues that require a detailed analysis, as well as those issues that do not require a detailed analysis.

Procedures

The meetings are recorded by a stenographer and become part of the formal record of the Commission proceeding on the project.

Individuals, organizations, and agencies with environmental expertise and concerns are encouraged to attend the meeting and to assist the staff in defining and clarifying the issues to be addressed in the EA.

Dated: September 22, 2014.
Nathaniel J. Davis, Sr.,
Deputy Secretary.

[FR Doc. 2014-23217 Filed 9-29-14; 8:45 am]

BILLING CODE 6717-01-P